DEPARTMENT OF THE INTERIOR

National Park Service

Environmental Statements; Notice of Intent: Roosevelt-Vanderbilt National Historic Sites, NY; General Management Plan

AGENCY: National Park Service, Interior.

ACTION: Notice of intent to prepare a General Management Plan/Environmental Impact Statement for Roosevelt-Vanderbilt National Historic Sites.

SUMMARY: In accordance with the National Environmental Policy Act of 1969 (Pub. L. 91-190 section 102(3)(c)), the National Park Service (NPS) is preparing a General Management Plan/Environmental Impact Statement (GMP/EIS) for the Roosevelt-Vanderbilt National Historic Sites located in the town of Hyde Park, Dutchess County, New York. Roosevelt-Vanderbilt National Historic Sites is an administrative entity formed by the National Park Service to manage three separately established national historic sites: Home of Franklin D. Roosevelt National Historic Site, Eleanor Roosevelt National Historic Site, and Vanderbilt Mansion National Historic Site. Together the sites embrace 777 acres of federally owned land along the east bank of the Hudson River.

Planners in the National Park Service Northeast Region will prepare the GMP/EIS with assistance from advisors and consultants. The GMP/EIS will propose a long-term approach (15 to 20 years) to managing Roosevelt-Vanderbilt National Historic Sites that is consistent with the sites' mission, NPS policy, and other laws and regulations. As required by law and policy, during the planning process, the team will formulate a range of alternatives for natural and cultural resource protection, visitor use and interpretation, and operations. The EIS will assess the impacts of the alternative management strategies to be described in the plan. The team will invite the public to share their thoughts and ideas related to the management of the national historic sites early in the planning process and throughout the preparation of the GMP/EIS through public meetings, the Internet, and other media. Specifically, the team will seek public comment at the draft GMP/EIS phase. Following public review processes outlined under National Environmental Protection Act, the final plan will become official through the approval of a Record of Decision, which will authorize implementation of the preferred alternative. The Record of Decision is expected to be completed in 2008.

Dated: December 5, 2005.
Mary A. Bomar,
Regional Director, Northeast Region.

[FR Doc. 06-1215 Filed 2-8-06; 8:45 am]

BILLING CODE 4310-21-M